DEPARTMENT OF HEALTH AND HUMAN SERVICES

Centers for Disease Control and Prevention

Breast and Cervical Cancer Early Detection and Control Advisory Committee

In accordance with section 10(a)(2)of the Federal Advisory Committee Act (Pub. L. 92-463), the Centers for Disease Control and Prevention (CDC) announces the following committee meeting:

Name: Breast and Cervical Cancer Early Detection and Control Advisory Committee (BCCEDCAC).

Times and Dates:

9 a.m.-5 p.m., November 5, 2003.

9 a.m.-3 p.m., November 6, 2003.

Place: The Ritz-Carlton Buckhead, 3434 Peachtree Road, NE., Atlanta, Georgia 30326, Telephone: 404-237-2700.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include a review and discussion of the National Breast and Cervical Cancer Early Detection Program components; professional education, screening, tracking, follow-up and case management, coalitions and partnerships, quality assurance and improvement, public education and outreach; update of the implementation of the treatment act; review of program announcement 2060, the National Cancer Prevention and Control Program; and discussion and review of related policies and emerging issues.

Agenda items are subject to change as priorities dictate.

Contact Person for More Information: Debra Younginer, Executive Secretary, BCCEDCAC, Division of Cancer Prevention and Control, National Center for Chronic Disease Prevention and Health Promotion, CDC, 4770 Buford Highway, Mailstop K-57, Chamblee, Georgia 30316, Telephone: 770-488-1074.

The Director, Management Analysis and Services Office, has been delegated the authority to sign Federal Register notices pertaining to announcements of meetings and other committee management activities for both CDC and the Agency for Toxic Substances and Disease Registry.

Dated: September 24, 2003.
Alvin Hall,
Director, Management Analysis and Services Office, Centers for Disease Control and Prevention.

[FR Doc. 03-24676 Filed 9-29-03; 8:45 am]

BILLING CODE 4163-18-P